DEPARTMENT OF HEALTH AND HUMAN SERVICES

National Institutes of Health

National Center for Complementary & Alternative Medicine; Notice of Meeting

Pursuant to Section 10(d) of the Federal Advisory Committee Act, as amended (5 U.S.C. Appendix 2), notice is hereby given of the National Advisory Council for Complementary and Alternative Medicine (NACCAM) meeting.

This meeting will be closed to the public in accordance with the provisions set forth in sections 552b(c)(4) and 552b(c)(6), Title 5 U.S.C., as amended. The grant applications and/or contract proposals and the discussion could disclose confidential trade secrets or commercial property such as patentable material, and personal information concerning individuals associated with the grant applications and/or contract proposals, the disclosure of which would constitute a clearly unwarranted invasion of personal privacy.

Name of Committee: National Advisory Council for Complementary and Alternative Medicine.

Date: July 29, 2005.

Closed: 11 a.m. to 2 p.m.

Agenda: To review and evaluate grant applications and/or proposals.

Place: 6707 Democracy Boulevard, Two Democracy, Room 401, Bethesda, Maryland 20892, (Telephone Conference Call).

Contact Person: Jane F. Kinsel, PhD, M.B.A., Executive Secretary, National Center for Complementary and Alternative Medicine, National Institutes of Health, 6707 Democracy Blvd., Suite 401, Bethesda, MD 20892, (301) 496-6701.

Copies of the meeting agenda and the roster of members will be furnished upon request by contacting Dr. Jane Kinsel, Executive Secretary, NACCAM, National Institutes of Health, 6707 Democracy Boulevard, Suite 401, Bethesda, Maryland 20892, 301-496-6701, Fax 301-480-0087, or via e-mail at naccames@mail.nih.gov.

Dated: March 16, 2005.
LaVerne Y. Stringfield,
Director, Office of Federal Advisory Committee Policy, NIH.

[FR Doc. 05-5668 Filed 3-22-05; 8:45 am]

BILLING CODE 4140-01-M